DEPARTMENT OF THE INTERIOR

Fish and Wildlife Service

[FWS-R9-IA-2011-N153; 96300-1671-0000-P5]

Endangered Species; Marine Mammals; Issuance of Permits

AGENCY: Fish and Wildlife Service, Interior.

ACTION: Notice of issuance of permits.

SUMMARY: We, the U.S. Fish and Wildlife Service (Service), have issued the following permits to conduct certain activities with both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
28080A | St. John Fisher College | 76 FR 12990; March 9, 2011 | June 16, 2011.
38879A | Scott Ackleson | 76 FR 27660; May 12, 2011 | June 17, 2011.
44242A | Larry Hildreth | 76 FR 32223; June 3, 2011 | July 05, 2011.
43070A | Keith Jefferson | 76 FR 32223; June 3, 2011 | July 12, 2011.

Marine Mammals

The permit listed below was issued prior to the close of the Federal Register comment period as per the Marine Mammal Protection Act, Section 104(c)(3)(A), due to loss of unique research opportunity. The permit will be valid for 1 year, and we will consider any comments submitted prior to the close of the comment period on July 25, 2011.

Permit No. | Applicant | Receipt of application Federal Register notice | Permit issuance date
039386 | U.S. Fish and Wildlife Service, Marine Mammals Management | 76 FR 36934; June 23, 2011 | July 15, 2011.

Availability of Documents

Documents and other information submitted with these applications are available for review, subject to the requirements of the Privacy Act and Freedom of Information Act, by any party who submits a written request for a copy of such documents to:

Brenda Tapia,
Program Analyst/Data Administrator, Branch of Permits, Division of Management Authority.

[FR Doc. 2011-18656 Filed 7-22-11; 8:45 am]

BILLING CODE 4310-55-P